DEPARTMENT OF AGRICULTURE

Forest Service

Notice of New Fee Site; Federal Lands Recreation Enhancement Act, (Title VIII, Pub. L. 108-447)

AGENCY: Monongahela National Forest, Forest Service, USDA.

ACTION: Notice of new fee site.

SUMMARY: The Monongahela National Forest is proposing to charge $5.00 for the use of a recently installed RV wastewater dump station at Cranberry Campground on the Gauley Ranger District. The Forest recently finished a major renovation at Cranberry Campground which included all new accessible picnic tables and fire rings at each campsite, removing the toilet facilities and replacing them with accessible precast toilet buildings, a new fee station, drainage improvements, gate installation, planting vegetation to improve screening between campsites, road resurfacing, and expansion of the day-use parking area. One new facility was added during the renovation, a RV wastewater dump station. This is now the only wastewater dump station facility within an hour drive of the campground. This dump station will serve campers in Cranberry Campground, as well as numerous campers from other Forest campsites nearby. Fees for use of the wastewater dump station will be used to offset the costs of pumping the vault at the RV wastewater dump station and hauling the contents off the site.

DATES: Send any comments about this fee proposal by October 1, 2013 so comments can be compiled, analyzed and shared with the Eastern Region Recreation Resource Advisory Committee.

ADDRESSES: Forest Supervisor, Monongahela National Forest, 200 Sycamore Street, Elkins, WV 26241.

FOR FURTHER INFORMATION CONTACT: Eric Sandeno, Recreation Program Manager, 304-636-1800.

SUPPLEMENTARY INFORMATION: The Federal Recreation Lands Enhancement Act (Title VII, Pub. L. 108-447) directed the Secretary of Agriculture to publish a six month advance notice in the Federal Register whenever new recreation fee areas are established.

This new fee will be reviewed by the Eastern Region Recreation Resource Advisory Committee prior to a final decision and implementation by the Regional Forester, Eastern Region, USDA Forest Service.

The Monongahela National Forest installed the wastewater dump station in response to a long standing request from the public for this service. A market comparison indicates that the $5.00 per use of the wastewater dump station is both reasonable and acceptable for this sort of service.

Dated: July 31, 2013.
Clyde N. Thompson,
Monongahela National Forest Supervisor.

[FR Doc. 2013-20551 Filed 8-22-13; 8:45 am]

BILLING CODE 3410-11-P